CONSUMER PRODUCT SAFETY COMMISSION

Sunshine Act Meetings

FEDERAL REGISTER CITATION OF PREVIOUS ANNOUNCEMENT: Vol. 76, No. 179, Thursday September 15, 2011, page 57025.

ANNOUNCED TIME AND DATES OF OPEN MEETING: 9 a.m.-12 p.m., Wednesday, September 21, 2011.

CHANGES TO OPEN MEETING: Time change to 10 a.m.-11 a.m.

REVISED AGENDA: Matters To Be Considered: Briefing Matter: Table Saws—Advance Notice of Proposed Rulemaking. (The Decisional Matter: Unblockable Drains, has been deferred to a later meeting.)

ANNOUNCED TIME AND DATE OF CLOSED MEETING: 2-3 p.m., Wednesday, September 21, 2011.

CLOSED MEETING CANCELLED. For a recorded message containing the latest agenda information, call (301) 504-7948.

CONTACT PERSON FOR ADDITIONAL INFORMATION: Todd A. Stevenson, Office of the Secretary, 4330 East West Highway, Bethesda, MD 20814, (301) 504-7923.

Dated: September 20, 2011.
Todd A. Stevenson,
Secretary.

[FR Doc. 2011-24546 Filed 9-21-11; 11:15 am]

BILLING CODE 6355-01-P